DEPARTMENT OF THE INTERIOR

National Park Service

Notice of Receipt of Application for Telecommunication Site

AGENCY: National Park Service, Glen Canyon National Recreation Area, Interior.

ACTION: Notice.

SUMMARY: (Authority: 47 U.S.C. 332 note (Telecommunications Act of 1996 section 704(c)); 16 U.S.C. 5; other applicable authorities and Director's Order 53) Glen Canyon National Recreation Area has received an application from Comment Four Corners, LLC, to install and operate a wireless (cellular) telephone system. The location of the proposed telecommunication site is at the Defiance House Lodge at Bullfrog, Utah.

DATES: Comments on this proposal can be mailed to the address shown below and must be received within 30 days of the publication of this notice in the Federal Register. Our practice is to make comments, including names, home addresses, home phone numbers, and email addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials or organizations or businesses, available for public inspection in their entirety.

ADDRESSES: This documents is available for review at Glen Canyon NRA Headquarters, 691 Scenic View Drive, Page, AZ 86040, between the hours of 7 a.m. and 4 p.m.

FOR FURTHER INFORMATION CONTACT: Glen Canyon NRA, P.O. Box 1507, Page, AZ 86040, or by going to http://planning.nps.gov.

SUPPLEMENTARY INFORMATION: Currently, there is no cellular service in the Bullfrog Marina area, which receives over 200,000 visitors per year. The cellular antennas are to be installed on the exterior of the Defiance House Lodge. The Defiance House Lodge is a non-historic 48 room hotel in the Bullfrog developed area. The proposed site includes six 51 inch by 13 inch by 3 inch rectangular panel antennas mounted on the façcade of the Defiance House Lodge and a nearby ground mounted associated radio equipment shielded by a cedar privacy fence matching existing fencing. The antenna panels do not visibly protrude above the roofline of the lodge and are painted to match the lodge color scheme. Neither the antennas nor the associated equipment will have any adverse effects on the area's scenery or visual resources. The staff at Glen Canyon National Recreation Area has completed a review and analysis pursuant to the National Environmental Policy Act (NEPA), the National Historic Preservation Act, the Telecommunications Act of 1996, and National Park Service requirements, policy and regulations. The NEPA analysis has determined that there will not be any adverse effects on the park's natural or cultural resources resulting from this proposal; therefore, this project has been categorically excluded from further analysis under NEPA. Copies of the NEPA analysis will be available at Glen Canyon NRA, 691 Scenic View Drive, Page, AZ 86040, or can be requested by writing to Glen Canyon NRA, Attention Stan Burman, PO Box 1507, Page, AZ 86040, or by going to http://parkplanning.nps.gov/

Nancie E. Ames,
Deputy Superintendent.

[FR Doc. 06-7025 Filed 8-17-06; 8:45 am]

BILLING CODE 4312-EF-M